DEPARTMENT OF TRANSPORTATION

Federal Aviation Administration

14 CFR Part 71

[Docket No. FAA-2025-0632; Airspace Docket No. 24-ASW-23]

RIN 2120-AA66

Establishment of Class E Airspace; Zuni, NM; Correction

AGENCY: Federal Aviation Administration (FAA), DOT.

ACTION: Final rule; correction.

SUMMARY: This action corrects a final rule that FAA published in the Federal Register on December 8, 2025. The final rule established Class E airspace extending upward from 700 feet above the surface for Zuni, NM. This action corrects an error in the legal description.

DATES: The effective date of the final rule published in the Federal Register on December 8, 2025 (90 FR 56682) remains May 14, 2026, 0901 UTC. The Director of the Federal Register approves this incorporation by reference action under 1 CFR part 51, subject to the annual revision of FAA Order JO 7400.11 and publication of conforming amendments.

ADDRESSES: FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Raul Garza Jr., Federal Aviation Administration, Operations Support Group, Central Service Center, 10101 Hillwood Parkway, Fort Worth, TX 76177; telephone (817) 222-5874.

SUPPLEMENTARY INFORMATION:

History

The FAA published a final rule for Docket No. FAA-2025-0632 in the Federal Register (90 FR 56682; December 8, 2025), establishing Class E airspace extending upward from 700 feet above the surface at Zuni, NM. After publication, the FAA found that an incorrect region was used in the header. This action corrects the error, which listed the region as AWP (Western Pacific). The correct region is ASW (Southwest). The dimensions of the airspace remain unchanged.

Correction to the Final Rule

Accordingly, pursuant to the authority delegated to me, Docket No. FAA-2025-0632 published in the Federal Register on December 8, 2025 (90 FR 56682), FR Doc. 2025-22145, is corrected as follows:

§ 71.1 [Corrected]

1. On page 56683, in the third column, delete the bolded header text: “AWP NM E5 Zuni, NM [Established]” and replace it with: “ASW NM E5 Zuni, NM [Corrected]”.

Issued in Fort Worth, Texas, on January 8, 2026.
Courtney E. Johns,
Acting Manager, Operations Support Group, ATO Central Service Center.

[FR Doc. 2026-00752 Filed 1-14-26; 8:45 am]

BILLING CODE 4910-13-P